DEPARTMENT OF HEALTH AND HUMAN SERVICES

Health Resources and Services Administration

Recharter for the Advisory Committee for Interdisciplinary, Community-Based Linkages

AGENCY: Health Resources and Services Administration (HRSA), Department of Health and Human Services (HHS).

ACTION: Notice.

SUMMARY: In accordance with the Federal Advisory Committee Act (FACA), HHS is hereby giving notice that the Advisory Committee on Interdisciplinary, Community-Based Linkages (ACICBL or Advisory Committee) is rechartered. The effective date of the renewed charter is March 24, 2021.

FOR FURTHER INFORMATION CONTACT: Shane Rogers, (DFO), Bureau of Health Workforce, HRSA, 5600 Fishers Lane, Rockville, Maryland 20857; 301-443-5260; or BHWACICBL@hrsa.gov.

SUPPLEMENTARY INFORMATION: The Advisory Committee provides advice and recommendations on policy, program development, and other matters of significance to the Secretary of Health and Human Services (Secretary) concerning the activities under Title VII, Part D of the Public Health Service Act, and is responsible for submitting an annual report to the Secretary and Congress describing the activities of the Committee, including findings and recommendations made by the Committee concerning the activities under Part D of Title VII. In addition, the ACICBL develops, publishes, and implements performance measures and guidelines for longitudinal evaluations, as well as recommends appropriation levels for programs under this part.

The renewed charter for the ACICBL was approved on March 5, 2021. The filing date is March 24, 2021. Recharter of the ACICBL gives authorization for the Committee to operate until March 24, 2023.

A copy of the charter is available on the ACICBL website at: https://www.hrsa.gov/advisory-committees/interdisciplinary-community-linkages/index.html. A copy of the charter can also be obtained by accessing the FACA database that is maintained by the Committee Management Secretariat under the General Services Administration. The website address for the FACA database is http://www.facadatabase.gov/.

Maria G. Button,
Director, Executive Secretariat.

[FR Doc. 2021-06113 Filed 3-24-21; 8:45 am]

BILLING CODE 4165-15-P